NUCLEAR REGULATORY COMMISSION

[NRC-2023-0161]

Information Collection: Domestic Licensing of Production and Utilization Facilities

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “Domestic Licensing of Production and Utilization Facilities.”

DATES: Submit comments by November 25, 2024. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2023-0161 when contacting the NRC about the availability of information for this action. You may obtain publicly available information related to this action by any of the following methods:

• Federal Rulemaking Website: Go to https://www.regulations.gov and search for Docket ID NRC-2023-0161.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

Written comments and recommendations for the proposed information collection should be sent within 30 days of publication of this notice to https://www.reginfo.gov/public/do/PRAMain. Find this particular information collection by selecting “Currently under Review—Open for Public Comments” or by using the search function.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. chapter 35), the NRC recently submitted a request for renewal of an existing collection of information to OMB for review entitled, “Domestic Licensing of Production and Utilization Facilities.” The NRC hereby informs potential respondents that an agency may not conduct or sponsor, and that a person is not required to respond to, a collection of information unless it displays a currently valid OMB control number.

The NRC published a Federal Register notice with a 60-day comment period on this information collection on June 13, 2024, 89 FR 50381.

1. The title of the information collection: Domestic Licensing of Production and Utilization Facilities.

2. OMB approval number: 3150-0011.

3. Type of submission: Extension.

4. The form number, if applicable: Not applicable.

5. How often the collection is required or requested: As necessary in order for the NRC to meet its responsibilities to conduct a detailed review of applications for licenses and amendments thereto to construct and operate nuclear power plants, preliminary or final design approvals, design certifications, research and test facilities, reprocessing plants and other utilization and production facilities, licensed pursuant to the Atomic Energy Act of 1954, as amended (the Act) and to monitor their activities. Reports are submitted daily, monthly, quarterly, annually, semi-annually, and on occasion.

6. Who will be required or asked to respond: Licensees, and applicants for, or holders, of an operating license or construction permit; applicants for a standard design certification under 10 CFR part 52; applicants for, or holders of, a standard design approval license, a combined license or a research and test facility license.

7. The estimated number of annual responses: 42,863 (42,694 reporting responses + 169 recordkeepers).

8. The estimated number of annual respondents: 195.

9. The estimated number of hours needed annually to comply with the information collection requirement or request: 3.7M hours (1.6M hours reporting + 2.1M hours recordkeeping).

10. Abstract: Part 50 of title 10 of the Code of Federal Regulations (10 CFR), “Domestic Licensing of Production and Utilization Facilities,” specifies technical information and data to be provided to the NRC or maintained by applicants and licensees so that the NRC may take determinations necessary to protect the health and safety of the public, in accordance with the Atomic Energy Act of 1954, as amended. The reporting and recordkeeping requirements contained in 10 CFR part 50 are mandatory for the affected licensees and applicants.

III. Availability of Documents

The documents identified in the following table are available to interested persons through ADAMS.

Document description | ADAMS accession No.
Supporting Statement, Section 1 (Overview)—“Domestic Licensing of Production and Utilization Facilities” | ML24208A042
Supporting Statement, Section 2—“Applications for Licenses, Certifications, and Regulatory Approvals” | ML24208A043
Supporting Statement, Section 3—“Decommissioning” | ML24208A044
Supporting Statement, Section 4—“Inspections, Records, Reports, Notifications” | ML24208A045
Supporting Statement, Section 5—“Issuance, Limitations, and Conditions of Licenses and Construction Permits” | ML24208A038
Supporting Statement, Section 6—“License Requirements” | ML24208A039
Supporting Statement, Section 7—“Standards for Licenses, Certifications, and Regulatory Approvals” | ML24208A040
Burden spreadsheet | ML24208A041

Dated: October 21, 2024.
For the Nuclear Regulatory Commission.
David Cullison,
NRC Clearance Officer, Office of the Chief Information Officer.

[FR Doc. 2024-24741 Filed 10-23-24; 8:45 am]

BILLING CODE 7590-01-P